DEPARTMENT OF HOMELAND SECURITY

Coast Guard

33 CFR Part 100

[Docket No. USCG-2022-0408]

Special Local Regulations; 2nd Annual St. Petersburg P1 Powerboat Gran Prix; Tampa Bay, FL

AGENCY: Coast Guard, DHS.

ACTION: Notification of enforcement of regulation.

SUMMARY: The Coast Guard will enforce a special local regulation for certain waters of Tampa Bay, FL. in the vicinity of the St. Petersburg Pier during the Annual St. Petersburg P1 Powerboat Grand Prix. Our regulation for marine events within the Seventh Coast Guard District, Sector St. Petersburg identifies the regulated area for this event. During the enforcement period, all persons and vessels, except those persons and vessels participating in the high speed boat races, are prohibited from entering, transiting through, anchoring in, or remaining within the regulated area without obtaining permission from the Captain of the Port (COTP) St. Petersburg or a designated representative.

DATES: This rule will be enforced daily from 6:30 a.m. until 7:00 p.m., on September 3, 2022 through September 4, 2022.

FOR FURTHER INFORMATION CONTACT: If you have questions about this notification of enforcement, call or email Marine Science Technician Second Class Regina Cuevas, Sector St. Petersburg Prevention Department, Coast Guard; telephone (813) 228-2191, email Regina.L.Cuevas@uscg.mil.

SUPPLEMENTARY INFORMATION: The Coast Guard will enforce the special local regulation in 33 CFR 100.703, Table 1 to § 100.703, Item No. 5, for the St. Petersburg P-1 Powerboat Grand Prix, from 6:30 a.m. until 7:00 p.m., on September 3, 2022 through September 4, 2022. This action is being taken to provide for the safety of life on navigable waterways during this event. Our regulation for recurring marine events, in § 100.703, Table 1 to § 100.703, Item No. 5, specifies the location of the regulated area for the St. Petersburg P-1 Powerboat Grand Prix which encompasses portions of Tampa Bay near the St. Petersburg Pier. During the enforcement period, as reflected in § 100.703(c), all persons and vessels, except those persons and vessels participating in the high speed boat races, are prohibited from entering, transiting through, anchoring in, or remaining within the regulated area without obtaining permission from the COTP St. Petersburg or a designated representative. If you are the operator of a vessel in the regulated area you must comply with directions from the Patrol Commander or any designated representative. Spectators are only allowed inside the regulated area if they remain within a designated spectator area. Spectators may contact the COTP St. Petersburg or designated representative to request permission to enter, transit through, remain within, or anchor in the regulated area. If permission is granted, spectators must abide by the directions of the COTP St. Petersburg or a designated representative.

In addition to this notice of enforcement in the Federal Register, the Coast Guard plans to provide notification of this enforcement period via the Local Notice to Mariners and/or marine information broadcasts.

Dated: August 16, 2022.
Michael P. Kahle,
Captain, U.S. Coast Guard, Captain of the Port Sector St Petersburg.

[FR Doc. 2022-18121 Filed 8-19-22; 8:45 am]

BILLING CODE 9110-04-P